DEPARTMENT OF COMMERCE

Foreign-Trade Zones Board

[B-84-2021]

Foreign-Trade Zone (FTZ) 80—San Antonio, Texas; Notification of Proposed Production Activity CGT U.S., Ltd. (Polyvinyl Chloride (PVC) Coated Upholstery Fabric Cover Stock) New Braunfels, Texas

CGT U.S., Ltd. (CGT) submitted a notification of proposed production activity to the FTZ Board for its facility in New Braunfels, Texas within Subzone 80E. The notification conforming to the requirements of the Board's regulations (15 CFR 400.22) was received on December 8, 2021.

Pursuant to 15 CFR 400.14(b), FTZ production activity would be limited to the specific foreign-status material described in the submitted notification (summarized below) and subsequently authorized by the Board. The benefits that may stem from conducting production activity under FTZ procedures are explained in the background section of the Board's website—accessible via www.trade.gov/ftz. The proposed material would be added to the production authority that the Board previously approved for the operation, as reflected on the Board's website.

The proposed foreign-status material is 100% polyester woven weft pile fabric—dyed (duty rate, 9.8%). The request indicates that the proposed material will be admitted to the zone in privileged foreign (PF) status (19 CFR 146.41), thereby precluding inverted tariff benefits on this item. The request also indicates that the material is subject to duties under Section 301 of the Trade Act of 1974 (Section 301), depending on the country of origin. The applicable Section 301 decisions require subject merchandise to be admitted to FTZs in PF status.

Public comment is invited from interested parties. Submissions shall be addressed to the Board's Executive Secretary and sent to: ftz@trade.gov. The closing period for their receipt is February 7, 2022.

A copy of the notification will be available for public inspection in the “Online FTZ Information System” section of the Board's website.

For further information, contact Diane Finver at Diane.Finver@trade.gov.

Dated: December 22, 2021.
Andrew McGilvray,
Executive Secretary.

[FR Doc. 2021-28192 Filed 12-27-21; 8:45 am]

BILLING CODE 3510-DS-P